DEPARTMENT OF AGRICULTURE

Submission for OMB Review; Comment Request

September 16, 2011.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Agricultural Research Service

Title: SNAP-Ed Connection Recipe Finder Sharing and Review Form.

OMB Control Number: 0518-0043.

Summary of Collection: The National Agricultural Library's SNAP-Ed Connection (formerly the Food Stamp Nutrition Connection), http://www.snap.nal.usda.gov) resource system developed an on-line recipe database, the Recipe Finder in Fiscal Year 2005. The purpose of the Recipe Finder database is to provide our target audience, Supplemental Nutrition Assistance Program Education (SNAP-ED) providers, with low-cost, easy to prepare, healthy recipes for classes and demonstrations with SNAP-Ed participants. We rely on these same educators to submit their best recipes to us for review, analysis and posting in the database. Data collected using the “SNAP-Ed Connection Recipe Review Form” will help identify a recipe's eligibility for inclusion in this database. Data collected using the SNAP-Ed Connection Recipe Review Form will help identify the success or value of the recipe during use with SNAP-Ed participants.

Need and Use of the Information: The voluntary “SNAP-Ed Connection Recipe Submission Form” allows SNAP-Ed providers the opportunity to submit recipes on-line and saves contributors time and money in photocopying and mailing/faxing recipes. SNAP-ED staff reviews submissions to determine for appropriateness and eligibility for inclusion into the Recipe Finder database. The voluntary “SNAP-Ed Connection Recipe Submission Form” allows SNAP-Ed providers and other Recipe Finder users the opportunity to review recipes on-line and share their feedback, including recipe photographs, with other Recipe Finder users. Failure of the SNAP-Ed Connection to this information would inhibit the ability of the target audience to participate in a valuable resource that will assist them and in turn the SNAP-Ed participants.

Description of Respondents: Individual or households; Not-for Profit Institutions; State, Local or Tribal Government.

Number of Respondents: 250.

Frequency of Responses: Reporting: Annually.

Total Burden Hours: 30.

Ruth Brown,
Departmental Information Collection Clearance Officer.

[FR Doc. 2011-24299 Filed 9-21-11; 8:45 am]

BILLING CODE 3410-03-P